FEDERAL COMMUNICATIONS COMMISSION

47 CFR Part 73

[DA No. 01-1082; MM Docket No. 97-86; RM-9025 & RM-9084]

Radio Broadcasting Services; Camdenton and Laurie, MO

AGENCY: Federal Communications Commission.

ACTION: Final rule.

SUMMARY: Camdenton Community Broadcasters proposed the allotment of Channel 265A at Camdenton, Missouri, as the community's first local commercial FM service. See 62 FR 10010, March 5, 1997. In response to a counterproposal filed by Bott Communications, Inc., we shall allot Channel 265C3 at Laurie, Missouri, as a first local service, at coordinates 38-08-30 and 92-50-37. There is a site restriction 6 kilometers south of the community. No allotment will be made at Camdenton, Missouri. A filing window for Channel 265C3 at Laurie will not be opened at this time. Instead, the issue of opening this allotment for auction will be addressed by the Commission in a subsequent order.

DATES: Effective June 11, 2001.

FOR FURTHER INFORMATION CONTACT: Kathleen Scheuerle, Mass Media Bureau, (202) 418-2180.

SUPPLEMENTARY INFORMATION: This is a summary of the Commission's Report and Order, MM Docket No. 97-86, adopted April 18, 2001, and released April 27, 2001. The full text of this Commission decision is available for inspection and copying during normal business hours in the Commission's Reference Center, 445 12th Street, SW., Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

PART 73—RADIO BROADCASTING SERVICES

1. The authority citation for part 73 continues to read as follows:

Authority: 47 U.S.C. 154, 303, 334 and 336.

§ 73.202 [Amended]

Section 73.202(b), the Table of FM Allotments under Missouri, is amended by adding Laurie, Channel 265C3.

Federal Communications Commission.
John A. Karousos,
Chief, Allocations Branch, Policy and Rules Division, Mass Media Bureau.

[FR Doc. 01-12091 Filed 5-14-01; 8:45 am]

BILLING CODE 6712-01-P